DEPARTMENT OF DEFENSE

Department of the Army, Corps of Engineers

Notice of Availability of the Draft Integrated Feasibility Report Draft Environmental Impact Statement/Draft Environmental Impact Report (DEIS/DEIR) for Westminster, East Garden Grove, California Flood Risk Management Study

AGENCY: Department of the Army, U.S. Army Corps of Engineers, DOD.

ACTION: Notice of availability.

SUMMARY: The U.S. Army Corps of Engineers (USACE), in cooperation with Orange County Public Works, Orange County, CA announces the availability of a Draft Integrated Feasibility Report (Draft IFR) including Feasibility Report and Environmental Impact Statement (EIS) for the Westminster, East Garden Grove, California Flood Risk Management Study for review and comment. The Draft IFR presents alternatives to address flood risk to the residents of the communities in the Westminster watershed. The purpose of this study is to evaluate the flood risk within the Westminster watershed that is primarily attributable to drainage channels overwhelmed with having to collect and convey more surface runoff downstream towards eventual discharge into the Pacific Ocean than what they were designed for. USACE evaluated and analyzed various flood control measures and formulated alternatives specifically for the Westminster watershed. USACE also evaluated the potential impacts of the alternatives and ways to minimize such impacts. A Notice of Intent to prepare the Draft EIS was published on January 13, 2006. A public scoping meeting was conducted on January 25, 2006 in the City of Garden Grove, CA.

DATES: The Draft IFR is available for a 45-day public review period, pursuant to the National Environmental Policy Act (NEPA), from Friday, October 19, 2018, through Monday, December 3, 2018.

ADDRESSES: Comments will be accepted through the project email address at westminster_comments@usace.army.mil, by letter and at public meetings. See SUPPLEMENTARY INFORMATION section for instructions on how to submit public comments, public meeting dates, and public meeting locations.

FOR FURTHER INFORMATION CONTACT: For further information and/or questions about Westminster, East Garden Grove, please contact Michael Padilla, Program Manager, by mail: U.S. Army Corps of Engineers, Chicago District, 231 South LaSalle Street, Suite 1500, Chicago, IL 60604, by phone: 312-846-5427; or by email: Michael.C.Padilla@usace.army.mil.

SUPPLEMENTARY INFORMATION: 1. Background. The study is being conducted in accordance with the study resolution adopted by the Committee on Public Works, House of Representatives Committee on Public Works on May 8, 1964 (Flood Control Act of 1938). The goal of the Westminster, East Garden Grove Study is to identify sustainable flood risk management solutions within the Westminster watershed to reduce flooding caused by overtopping of the C05/C06 and C02/C04 channel systems. USACE conducted the Westminster Study in consultation with other Federal agencies, Native American tribes, state agencies, local governments, and non-governmental organizations.

2. The Draft IFR. The Draft IFR includes an analysis of four alternatives, including the No Action Alternative, to determine which plan or plans would merit further consideration for federal participation. The documentation also includes an analysis of the impacts of each alternative on existing resources within the Westminster watershed. The alternatives were developed to a level of detail sufficient to identify a Tentatively Selected Plan (TSP), as well as a Locally Preferred Plan (LPP). The TSP is the Minimum Channel Modifications Alternative, which reduces flood risk by lining the existing drainage channels with concrete, thus increasing conveyance efficiency. The LPP is the Maximum Channel Modifications Alternative, which reduces flood risk by altering the geometry of existing drainage channels to increase conveyance efficiency and storage capacity. Both of these plans include additional downstream measures to address the impacts of increased flood flow conveyance resulting from the channel modifications. The downstream measures include increasing the span of Warner Avenue Bridge, replacing the tide gates on C05, and constructing a floodwall along the Pacific Coast Highway at Outer Bolsa Bay. Compatible nonstructural measures were also included in the TSP and LPP to lessen the life safety risk associated with flooding in the project area. Each plan will require mitigation to address the loss of habitat.

3. Public Participation. USACE will accept comments related to the Draft IFR until December 3, 2018. Comments may be submitted in the following ways:

• Project Email Address: Send comment and any attachments to westminster_comments@usace.army.mil.

• Mail: Send comments to Orange County Public Works, ATTN: Justin Golliher, 300 North Flower Street, Santa Ana, CA 92703. Comments must be postmarked by December 3, 2018.

• Public Meetings: Public meetings are scheduled for November 7 and November 8, 2018. The public review meeting on November 7, 2018, is from 6:30 p.m. to 9:00 p.m. at the City of Westminster City Hall. The address is 8200 Westminster Boulevard, Westminster, CA 92683. The public review meeting on November 8, 2018, is from 6:30 p.m. to 9:00 p.m. at the Meadowlark Golf Course. The address is 16782 Graham Street, Huntington Beach, CA 92649. The public meetings will allow participants the opportunity to comment on the Draft IFR. A stenographer will document oral comments at the public meetings.

Public meetings will begin with a brief presentation regarding the study and the formulated alternatives followed by an oral comment period. During each meeting, USACE personnel will also collect written comments on comment cards. Additional information about public meetings including dates, times and locations will be posted on the Westminster project website at https://www.lrc.usace.army.mil/Missions/Civil-Works-Projects/Westminster-East-Garden-Grove/.

4. Authority. This action is being conducted in accordance with the study resolution adopted by the Committee on Public Works, House of Representatives Committee on Public Works on May 8, 1964 (Flood Control Act of 1938), and the National Environmental Policy Act of 1969 (NEPA), 42 U.S.C. 4321, et seq., as amended.

Dated: 25 October 2018.
Susanne J. Davis,
Chief, Planning Branch, CELRC-PMD-PB.

[FR Doc. 2018-23880 Filed 10-31-18; 8:45 am]

BILLING CODE 3720-59-P